DEPARTMENT OF TRANSPORTATION

Federal Aviation Administration

14 CFR Part 147

[Docket No. FAA-2015-3901; Notice No. 15-10 and Notice No. 19-02]

RIN 2120-AK48

Aviation Maintenance Technician Schools; Withdrawal

AGENCY: Federal Aviation Administration (FAA), Transportation (DOT).

ACTION: Notice of proposed rulemaking and supplemental notice of proposed rulemaking; withdrawal.

SUMMARY: The FAA is withdrawing a previously published notice of proposed rulemaking (NPRM) that would have modernized and reorganized the required curriculum subjects for certificated Aviation Maintenance Technician Schools (AMTS), relocated course content items from the appendices into each school's operations specifications, and updated curriculum requirements to meet current industry needs. The FAA is also withdrawing the subsequently published supplemental notice of proposed rulemaking (SNPRM) that would have expanded the scope of the NPRM to allow competency-based training and satellite training locations and replaced the national passing norms specified in the quality of instruction requirements with a standard pass rate. The FAA is withdrawing these regulatory actions because they have been superseded by the Aircraft Certification, Safety, and Accountability Act.

DATES: The NPRM published on October 2, 2015 (80 FR 59674), is withdrawn as of May 24, 2022. The SNPRM published on April 16, 2019 (84 FR 15533), is withdrawn as of May 24, 2022.

FOR FURTHER INFORMATION CONTACT: For technical questions concerning this action, contact Tanya Glines, Aircraft Maintenance Division, Federal Aviation Administration, 800 Independence Avenue SW, Washington, DC 20591; telephone (202) 380-5896; email Tanya.Glines@faa.gov.

SUPPLEMENTARY INFORMATION:

Background

On October 2, 2015, the FAA published an NPRM (Notice No. 15-10) to modernize the curriculum requirements for certificated AMTSs. The FAA proposed to revise the required curriculum subjects listed in the appendices of part 147 and to relocate the course content items from the part 147 appendices to each school's operations specifications. The FAA proposed these revisions because the existing curriculum requirements are outdated, do not meet current industry needs, and could be changed only through notice and comment rulemaking. These amendments would have ensured that AMTS students receive up-to-date foundational training to meet the demands of the aviation industry. The comment period for the NPRM was originally scheduled to close on December 31, 2015, but was subsequently extended to February 1, 2016 (80 FR 72404).

On April 16, 2019, the FAA published an SNPRM (Notice No. 19-02), expanding the scope of the NPRM to propose the allowance of competency-based training and satellite training locations and to replace the national passing norms specified in the quality of instruction requirements with a standard pass rate. The FAA proposed these revisions based on public comments received on the NPRM. The comment period for the SNPRM closed on June 17, 2019.

Reason for Withdrawal

The FAA is withdrawing the NPRM (Notice No. 15-10) and SNPRM (Notice No. 19-02) due to Section 135 of the Aircraft Certification, Safety, and Accountability Act, Public Law 116-260, which was enacted on December 27, 2020 (the “Act”). Section 135, Promoting Aviation Regulations for Technical Training, requires the FAA to issue interim final regulations in accordance with the requirements of Section 135. Additionally, Section 135 provides that current part 147 and any regulations issued under section 624 of the FAA Reauthorization Act of 2018 (Pub. L. 115-254) shall have no force or effect on or after the effective date of the interim final regulations. The proposed requirements contained in the NPRM (Notice No. 15-10) and SNPRM (Notice No. 19-02) would have significantly exceeded the scope of the statutory mandate. Accordingly, to comply with Section 135, the FAA is withdrawing the NPRM (Notice No. 15-10) and SNPRM (Notice No. 19-02). Instead of finalizing these proposals, the FAA published an interim final rule concurrently with this notice of withdrawal that establishes requirements for certificated AMTSs in accordance with Section 135 of the Act.

Conclusion

The FAA has determined that Notice Nos. 15-10 and 19-02 have been superseded by the Aircraft Certification, Safety, and Accountability Act. Therefore, the FAA withdraws Notice No. 15-10, published at 80 FR 59674 on October 2, 2015, and Notice No. 19-02, published at 84 FR 15533 on April 16, 2019, as directed.

Issued under authority provided by 49 U.S.C. 106(f), 44701(a), and 44703 in Washington, DC.

Robert C. Carty,
Deputy Executive Director, Flight Standards Service.

[FR Doc. 2022-10054 Filed 5-23-22; 8:45 am]

BILLING CODE 4910-13-P